DEPARTMENT OF JUSTICE

Antitrust Division

Notice Pursuant to the National Cooperative Research and Production Act of 1993—Service Creation Community (SCC)

Notice is hereby given that, on January 28, 2004, pursuant to section 6(a) of the National Cooperative Research and Production Act of 1993, 15 U.S.C. 4301 et seq. (“the Act”), Service Creation Community (SCC) has filed written notifications simultaneously with the Attorney General and the Federal Trade Commission disclosing changes in its membership status. The notifications were filed for the purpose of extending the Act's provisions limiting the recovery of antitrust plaintiffs to actual damages under specified circumstances. Specifically, Accenture, Dallas, TX; ADC Telecommunications, Rumson, NJ; Airespace, San Jose, CA; Ascendent Telecommunications, Inc., Encino, CA; Bridgewater Systems, Ottawa, Ontario, Canada; British Telecommunications, Billericay, Essex, United Kingdom; Current Analysis, Sterling, VA; Epicenter, San Clemente, CA; Goldman, Sachs, & Co., New York, NY; InStat/MDR, Scottsdale, AZ, interNetwork, Inc., San Francisco, CA; IP Infusion, San Jose, CA; Juniper Networks, Sunnyvale, CA; LSI Logic Storage Systems, Inc., Wichita, KS; Maranti Networks, San Jose, CA; Micromuse Inc., San Francisco, CA; MeTV Networks, Summerland, CA; Microsoft Corporation, Redmond, WA; Net.com, Fremont, CA; Oracle, St. Louis, MO; PacketExchange, London, United Kingdom; Paradyne, Largo, FL; Procket Networks, Milpitas, CA; Radvision, Glen Rock, NJ; Siemens, Boca Raton, FL; Telechoice, Dallas, TX; Tony Fisch Consulting, Los Angeles, CA; Wandl Inc., Bound Brook, NJ; Yipes, San Francisco, CA; and Welsh Development Agency, Cardiff, United Kingdom have been added as parties to this venture.

Also, Ai Metrix, El Dorado Hills, CA; Broadband Content Coalition, Guildford, Surrey, United Kingdom; and Infonautics Consulting, Inc., Ramsey, NJ have been dropped as parties to this venture.

No other changes have been made in either the membership or planned activity of the group research project. Membership in this group research project remains open, and Service Creation Community (SCC) intends to file additional written notification disclosing all changes in membership.

On February 4, 2003, SCC filed its original notification pursuant to section 6(a) of the Act. The Department of Justice published a notice in the Federal Register pursuant to section 6(b) of the Act on May 16, 2003 (68 FR 26649).

The last notification was filed with the Department on July 7, 2003. A notice was published in the Federal Register pursuant to section 6(b) of the Act on July 28, 2003 (68 FR 44366).

Dorothy B. Fountain,
Deputy Director of Operations, Antitrust Division.

[FR Doc. 04-4842 Filed 3-3-04; 8:45 am]

BILLING CODE 4410-11-M